DEPARTMENT OF JUSTICE

Notice of Lodging of Consent Decree Under the Comprehensive Environmental Response, Compensation, and Liability Act

Notice is hereby given that on February 8, 2000, a proposed Consent Decree in United States v. A-L Processors, f.k.a. Atlas-Lederer Co., et al., Civil Action No. C-3-91-309, was lodged with the United States District Court for the Southern District of Ohio.

In this action the United States sought the reimbursement of response costs in connection with the United Scrap Lead Superfund Site in Troy, Miami County, Ohio (“the Site”) pursuant to the Comprehensive Environmental Response, Compensation and Liability Act (“CERCLA”), 42 U.S.C. 9601 et seq. The Consent Decree resolves the United States' claims against Barberton Auto Wrecking, Bedford Auto Wrecking Inc., Cleveland Road Auto Wrecking, Cohen Brothers Metals Company, Galion Auto Wrecking, Inc., Glazer Scrap Corporation, Hinton's Incorporated, J.M. Cousins Company, Joseph H. Homan Metal Company, Joyce Iron & Metal Company, Kelly's Battery Service, Kemper Iron, Kenmore Auto Wrecking, Oil & Battery Service Company, Piqua Batter, Inc., Charles Drapp, Mary Drapp, George L. Richardson d.b.a. Turnpike Auto Wrecking, White's Sales & Service, and Montgomery Iron & Paper Company, for response costs incurred as a result of the release or threatened release of hazardous substances at the Site. These parties will pay the United States $160,036.

The Consent Decree also resolves the United Scrap Lead Respondent Group's (“Respondent Group”) CERCLA claims against the same parties for response costs incurred as a result of the release or threatened release of hazardous substances at the Site. These parties will pay the Respondent Group $549,250.

The Department of Justice will receive for a period of thirty (30) days from the date of this publication comments relating to the Consent Decree. Comments should be addressed to the Assistant Attorney General of the Environment and Natural Resources Division, Department of Justice, P.O. Box 7611, Washington, D.C. 20044, and should refer to United States v. A-L Processors, f.k.a. Atlas-Lederer Co., et al., D.J. Ref. 90-11-3-279B.

The Consent Decree may be examined at the Office of the United States Attorney, Southern District of Ohio, Federal Building Room 602, 200 West Second Street, Dayton, Ohio, or at the Region 5 Office of the Environmental Protection Agency, 77 West Jackson Street, Chicago, Illinois 60604-3590. A copy of the Consent Decree may also be obtained by mail by requesting a copy from the Department of Justice Consent Decree Library, P.O. Box 7611, Washington, DC 20044. In requesting a copy, please enclose a check in the amount of $14.00 (56 pages at 25 cents per page reproduction cost) payable to the Consent Decree Library.

Joel M. Gross,
Chief, Environmental Enforcement Section, Environment and Natural Resources Division.

[FR Doc. 00-4507 Filed 2-24-00; 8:45 am]

BILLING CODE 4410-15-M